Title 3—

The President

Proclamation 7666 of April 25, 2003

National Charter Schools Week, 2003

By the President of the United States of America

A Proclamation

Charter schools provide many children with a first-class education, and they have gained national recognition for their accountability standards, innovative programs, and success with young people. The high expectations they set and the opportunities for development they create help students attending charter schools realize their potential and achieve their dreams.

Charter schools are held to the same standards, including curriculum standards, as traditional schools, and are also accountable to students, parents, and community leaders for producing results and improving achievement. By defining expected goals and offering options for children trapped in low-performing schools, charter schools help improve the overall quality of education in America.

The success of charter schools is evident in the achievements of the children who attend those schools and in the positive response from the communities they serve. In little more than a decade, 2,700 charter schools have opened in 36 States and the District of Columbia, and nearly two-thirds of these schools have waiting lists. Forty States and the District of Columbia have enacted charter school laws, and this year four additional States began considering charter school laws. To help State and local districts provide parents with more quality education alternatives, I have proposed increased funding for charter schools so that more of our children can receive the gift of a good education.

The accomplishments of charter schools prove that we can improve our public education system by replacing low expectations with a culture of achievement that rewards success and does not tolerate failure. Over the last 2 years, my Administration has taken steps to realize this vision by supporting accountability for results, expanded parental choice, increased local flexibility, and a focus on what works. With the No Child Left Behind Act of 2001, we continue to build a stronger educational foundation for America's children. States are now responsible for improving student achievement in public schools by maintaining tough academic standards and setting annual progress goals. The law further requires regular testing to ensure all students are proficient in reading and math and to help identify learning problems.

My Administration is working to provide the resources schools need to fund education reform and achieve these high standards. We have increased funding for elementary and secondary education by 36 percent in the last 2 years, and the Federal Government will spend nearly $24 billion on these programs this year. Through the new Reading First program, over $500 million has been distributed to 29 States to assist with reading programs that help ensure that our children will know how to read by the third grade. Expansions of our charter schools, and reforms in traditional public schools, are helping build the mind and character of our future leaders.

During National Charter Schools Week, we renew our commitment to our children and their education. I urge every American to visit a charter school and learn about its efforts to help children in their community. Charter schools are just one of many successful alternatives that ensure that no child is left behind. By raising expectations and fostering hope, we can help build a future of promise for our next generation of Americans.

NOW, THEREFORE, I, GEORGE W. BUSH, President of the United States of America, by virtue of the authority vested in me by the Constitution and laws of the United States, do hereby proclaim April 27 through May 3, 2003, as National Charter Schools Week. I commend the States with charter schools, and I call on parents of charter school children to share their success stories with others so that all Americans may understand more about the important work of charter schools.

IN WITNESS WHEREOF, I have hereunto set my hand this twenty-fifth day of April, in the year of our Lord two thousand three, and of the Independence of the United States of America the two hundred and twenty-seventh.

B

[FR Doc. 03-10783

Filed 4-29-03; 8:45 am]

Billing code 3195-01-P